DEPARTMENT OF HEALTH AND HUMAN SERVICES

National Institutes of Health

National Institute of General Medical Sciences; Notice of Meeting

Pursuant to section 10(a) of the Federal Advisory Committee Act, as amended (5 U.S.C. App.), notice is hereby given of a Concept Clearance meeting for the NIGMS Human Genetic Cell Repository.

This teleconference meeting will be open to the public. Members of the public who wish to attend the teleconference may participate by calling the toll-free number, 800-475-0553 and enter passcode 43705.

Name of Committee: Concept Clearance for the NIGMS Human Genetic Cell Repository.

Date: January 28, 2014.

Time: 11:00 a.m. to 2:00 p.m.

Agenda: To provide concept clearance for re-competition of the contract to operate the NIGMS Human Genetic Cell Repository.

Place: National Institutes of Health, Natcher Building, 45 Center Drive, Room 2As.25R, Bethesda, MD 20892, (Telephone Conference Call).

Contact Person: Michael Bender, Ph.D., Program Director, Division of Genetics and Developmental Biology, National Institute of General Medical Sciences, National Institutes of Health, 45 Center Drive, Room 2As.25R, Bethesda, MD 20892, (301) 594-0943, mbender@nigms.nih.gov.

A draft meeting agenda will be available at http://www.nigms.nih.gov/Research/SpecificAreas/HGCR/Pages/Concept-Clearance-2014.aspx.

This notice is being published less than 15 days prior to the meeting due to the special emphasis of the meeting.

(Catalogue of Federal Domestic Assistance Program No. 93.859, Biomedical Research and Research Training, National Institutes of Health, HHS)

Dated: January 15, 2014.
Melanie J. Gray,
Program Analyst, Office of Federal Advisory Committee Policy.

[FR Doc. 2014-01118 Filed 1-21-14; 8:45 am]

BILLING CODE 4140-01-P